DEPARTMENT OF THE INTERIOR

Bureau of Land Management

[NV-055-5853-EU]

Notice of Realty Action; Direct Sale of Public Lands in Clark County, NV, N-77383

AGENCY: Bureau of Land Management, Interior.

ACTION: Notice.

SUMMARY: The following described lands, aggregating approximately 2.5 acres, have been designated for disposal and will be offered as a direct sale of public lands in Clark County, Nevada, to Coast Hotels and Casinos, Inc.

DATES: Comments regarding the proposed sale must be received by the Bureau of Land Management (BLM) on or before November 1, 2004.

ADDRESSES: Comments regarding the proposed sale should be addressed to: Field Manager, Las Vegas Field Office, Bureau of Land Management, 4701 N. Torrey Pines Drive, Las Vegas, Nevada 89130.

More detailed information regarding the proposed sale and the land involved may be reviewed during normal business hours (7:30 a.m. to 4:30 p.m.) at the Las Vegas Field Office (LVFO).

FOR FURTHER INFORMATION CONTACT: You may contact Judy Fry, Program Lead, Sales at (702) 515-5081 or by email at jfry@nv.blm.gov. You may also call (702) 515-5000 and ask to have your call directed to a member of the Sales Team.

SUPPLEMENTARY INFORMATION: The lands hereinafter described, consisting of 2.5 acres, more or less, have been authorized and designated for disposal under the Southern Nevada Public Land Management Act of 1998 (112 Stat. 2343), as amended by the Clark County Conservation of Public Land and Natural Resources Act of 2002 (116 Stat. 1994) (hereinafter “SNPLMA”). The land will be offered noncompetitively as a direct sale in accordance with the applicable provisions of Sections 203 and 209 of the Federal Land Policy Management Act of 1976 (43 U.S.C. 1713 and 1719), respectively, its implementing regulations, and in accordance with 43 CFR 2711.3-3, at not less than the appraised Fair Market Value (FMV) of the parcel, which has been determined to be $1,324,000.00.

43 CFR 2711.3-3(a) states that “Direct sales (without competition) may be utilized, when in the opinion of the authorized officer, a competitive sale is not appropriate and the public interest would best be served by a direct sale. Examples include, but are not limited to * * *” (2) A tract identified for sale that is an integral part of a project of public importance and speculative bidding would jeopardize a timely completion and economic viability of the project; or * * * (4) The adjoining ownership pattern and access indicate a direct sale is appropriate”.

Clark County, Nevada has proposed that the 2.5 acre parcel be sold to Coast Hotels and Casinos, Inc (Coast) as an integral part of a public project that includes a new highway interchange on I-15, an 84-inch water pipeline and a significant realignment of the Silverado Ranch Boulevard right-of-way. During design of the long-planned I-15 interchange, Clark County discovered that a significant shift of alignment outside of the existing right-of-way would be required because of irreconcilable conflicts with the location of the water pipeline. The County has identified the need to locate the I-15 interchange at Silverado Ranch Boulevard. Since the interchange cannot be relocated additional right-of-way is necessary to accommodate the freeway interchange, the Southern Nevada Water Authority pipeline and a major arterial street; impacting 2.25 acres of private land owned by Coast. Coast has donated 2.25 acres to Clark County to permit construction of the above public projects, but needs to acquire other land to replace the donation. This donation and the subsequent BLM direct sale to Coast would alleviate the need for Clark County to pursue other means to acquire the acreage for the projects and potentially avoid the delay and taxpayer expense that any alternative such as condemnation would cause. Clark County has asked that federal lands immediately adjacent to the donated property be sold to Coast at FMV to enable Coast to replace the donated land and avoid unduly diminishing the size and value of the their aggregate property. Clark County expressed specific concerns that speculative bidding on the federal parcel could prevent Coast from purchasing the replacement lands, thus stopping the donation and impairing the County's ability to complete the public project. The 2.25 acre donation from Coast to the County, which has been completed and recorded in the County, is a term and condition of the FMV direct sale to Coast. In the opinion of the authorized officer, a direct sale to Coast best serves the public interest.

In this instance, Coast's ownership of adjacent parcels meets the regulation's adjoining ownership and access test as well. Coast owns parcels adjacent to the federal parcel on the south and east and controls access from those points. The federal parcel is landlocked by I-15, without access, on the west. County-owned land adjoins the federal parcel on the north. The County states that they will sell this remnant parcel to Coast, and an easement for a future interior road (Ensworth Street) will be abandoned, resulting in the federal parcel being landlocked by Coast-owned properties.

The proposed sale is consistent with the BLM Las Vegas Resource Management Plan and would serve important public objectives which cannot be achieved prudently or feasibly elsewhere. The land contains no other known public values. The environmental assessment, map, and approved appraisal report covering the proposed sale are available for review at the BLM, Las Vegas Field Office, Las Vegas, Nevada (LVFO).

Land Proposed for Sale

Mount Diablo Meridian, Nevada

T. 22 S., R. 61 E.,

Sec. 29, SE¼NW¼NW¼NE¼.

The lands described above contain 2.5 acres, more or less.

When the parcel of land is sold, the locatable mineral interests therein will be sold simultaneously as part of the sale. The land identified for sale has no known locatable mineral value. Acceptance of the offer to purchase will constitute an application for conveyance of the locatable mineral interests. In conjunction with the final payment, the applicant will be required to pay a $50.00 non-refundable filing fee for processing the conveyance of the locatable mineral interest.

Terms and Conditions of Sale

The proposed direct sale to Coast is contingent upon the County receiving beforehand the 2.25 acre donation from Coast on terms satisfactory to the County. The 2.5 acre BLM sale parcel is subject to the following:

1. All discretionary leaseable and saleable mineral deposits are reserved; but, permittees, licensees, and lessees retain the right to prospect for, mine, and remove such minerals owned by the United States under applicable law and any regulations that the Secretary of the Interior may prescribe, including all necessary access and exit rights.

2. A right-of-way is reserved for ditches and canals constructed by authority of the United States under the Act of August 30, 1890 (43 U.S.C. 945).

3. The parcel is subject to valid existing rights. Parcels may also be subject to applications received prior to publication of this Notice if processing the application would have no adverse affect on the federally approved Fair Market Value (FMV).

4. The parcel is subject to reservations for road, public utilities and flood control purposes, both existing and proposed, in accordance with the local governing entities' Transportation Plans.

5. No warranty of any kind, express or implied, is given by the United States as to the title, physical condition or potential uses of the parcel of land proposed for sale; and the conveyance of any such parcel will not be on a contingency basis. However, to the extent required by law, all such parcels are subject to the requirements of section 120(h) of the Comprehensive Environmental Response Compensation and Liability Act, as amended (CERCLA) (42 U.S.C. 9620(h)).

6. All purchasers/patentees, by accepting a patent, agree to indemnify, defend, and hold the United States harmless from any cost, damages, claims, causes of action, penalties, fines, liabilities, and judgments of any kind or nature arising from the past, present, and future acts or omissions of the patentee or their employees, agents, contractors, or lessees, or any third-party, arising out of or in connection with the patentee's use, occupancy, or operations on the patented real property. This indemnification and hold harmless agreement includes, but is not limited to, acts and omissions of the patentee and their employees, agents, contractors, or lessees, or any third party, arising out of or in connection with the use and/or occupancy of the patented real property which has already resulted or does hereafter result in; (1) Violations of Federal, State, and local laws and regulations that are now or may in the future become, applicable to the real property; (2) Judgments, claims or demands of any kind assessed against the United States; (3) Cost, expenses, or damages of any kind incurred by the United States; (4) Other releases or threatened releases of solid or hazardous waste(s) and/or hazardous substances(s), as defined by federal or state environmental laws; off, on, into or under land, property and other interests of the United States; (5) Other activities by which solids or hazardous substances or wastes, as defined by federal and state environmental laws are generated, released, stored, used or otherwise disposed of on the patented real property, and any cleanup response, remedial action or other actions related in any manner to said solid or hazardous substances or wastes; or (6) Natural resource damages as defined by federal and state law. This covenant shall be construed as running with patented real property and may be enforced by the United States in a court of competent jurisdiction.

7. Maps delineating the individual proposed sale parcel are available for public review at the BLM LVFO along with the appraisal.

8. Upon acceptance of the offer to purchase, Coast Casinos will submit 20% of the FMV to Bureau Land Management (BLM), Las Vegas Field Office, 4701 North Torrey Pines Drive, Las Vegas, and NV 89130. Within 180 days following payment of the deposit, Coast Casinos will remit the balance of the FMV to BLM in the form of a certified check, money order, bank draft or cashier's check made payable to the order of the Bureau of Land Management.

9. The BLM may accept or reject any or all offers, or withdraw any parcel of land or interest therein from sale, if, in the opinion of the authorized officer, consummation of the sale would not be fully consistent with FLPMA or other applicable laws or are determined to not be in the public interest. If not sold, any parcel described above in this Notice may be identified for sale at a later date without further legal notice.

10. Federal law requires bidders to be U.S. citizens 18 years of age or older; a corporation subject to the laws of any State or of the United States; a State, State Instrumentality, or political subdivision authorized to hold property, or an entity including, but not limited to, associations or partnerships capable of holding property or interest therein under the laws of the State of Nevada. Certification of qualification, including citizenship or corporation or partnership, must accompany the bid deposit.

Additional Information: In order to determine the value, through appraisal, of the parcel of land proposed to be sold, certain extraordinary assumptions may have been made of the attributes and limitations of the land and potential effects of local regulations and policies on potential future land uses. Through publication of this NORA, the BLM gives notice that these assumptions may not be endorsed or approved by units of local government. It is the buyer's responsibility to be aware of all applicable local government policies, laws, and regulations that would affect the subject lands, including any required dedication of lands for public uses. It is also the buyer's responsibility to be aware of existing or projected use of nearby properties. When conveyed out of federal ownership, the lands will be subject to any applicable reviews and approvals by the respective unit of local government for proposed future uses, and any such reviews and approvals will be the responsibility of the buyer. Any land lacking access from a public road or highway will be conveyed as such, and future access acquisition will be the responsibility of the buyer.

Public Comments

The BLM Field Manager, Las Vegas Field Office, 4701 North Torrey Pines Drive, Las Vegas, Nevada 89130 will receive the comments of the general public and interested parties up to 45 days after publication of this Notice in the Federal Register. Any adverse comments will be reviewed by the State Director, who may sustain, vacate, or modify this realty action in whole or in part. In the absence of any adverse comments this realty action will become the final determination of the Department of the Interior. Any comments received during this process, as well as the commentor's name and address, will be available to the public in the administrative record and/or pursuant to a Freedom of Information Act request. You may indicate for the record that you do not wish to have your name and/or address made available to the public. Any determination by the BLM to release or withhold the names and/or addresses of those who comment will be made on a case-by-case basis. A request from a commentor to have their name and/or address withheld from public release will be honored to the extent permissible by law.

Dated: August 17, 2004.
Angie Lara,
Assistant Field Manager.

[FR Doc. 04-20755 Filed 9-14-04; 8:45 am]

BILLING CODE 4310-HC-P